DEPARTMENT OF TRANSPORTATION

Office of the Secretary

Notice of Applications for Certificates of Public Convenience and Necessity and Foreign Air Carrier Permits Filed Under Subpart B (Formerly Subpart Q) During the Week Ending August 17, 2001

The following Applications for Certificates of Public Convenience and Necessity and Foreign Air Carrier Permits were filed under Subpart B (formerly Subpart Q) of the Department of Transportation's Procedural Regulations (See 14 CFR 301.201 et seq. The due date for Answers, Conforming Applications, or Motions to Modify Scope are set forth below for each application. Following the Answer period, DOT may process the application by expedited procedures. Such procedures may consist of the adoption of a show-cause order, a tentative order, or in appropriate cases a final order without further proceedings.

Docket Number: OST-1996-1393.

Date Filed: August 13, 2001.

Due Date for Answers, Conforming Applications, or Motion to Modify Scope: September 4, 2001.

Description: Application of American Airlines, Inc., pursuant to 49 U.S.C. Section 41101 and 14 CFR Part 377, subpart B, requesting renewal of its certificate for Route 517, authorizing scheduled foreign air transportation of persons, property and mail between Dallas/Fort Worth, Texas and Tokyo, Japan.

Docket Number: OST-1996-1394

Date Filed: August 13, 2001.

Due Date for Answers, Conforming Applications, or Motion to Modify Scope: September 4, 2001.

Description: Application of American Airlines, Inc., pursuant to 49 U.S.C. Section 41101 and Subpart B, requesting renewal of segment 4 of its certificate for Route 602, authorizing scheduled foreign air transportation of persons, property, and mail between the coterminal points Dallas/Fort Worth, Texas and Miami, Florida, the intermediate points the Azores and Lisbon, Portugal, and the coterminal points Madrid, Barcelona, Malaga, and Palma de Mallorca, Spain.

Docket Number: OST-2001-10393.

Date Filed: August 13, 2001.

Due Date for Answers, Conforming Applications, or Motion to Modify Scope: September 4, 2001.

Description: Application of United Parcel Service Co., pursuant to 49 U.S.C. Section 41102 and Part 302, Subpart B, requesting amendment of its certificate of public convenience and necessity to engage in the foreign air transportation of property and mail between a point or points in the United States, on the one hand, and a point or points in Mexico, on the other.

Docket Number: OST-2001-10427.

Date Filed: August 15, 2001.

Due Date for Answers, Conforming Applications, or Motion to Modify Scope: September 5, 2001.

Description: Application of Flight Alaska, Inc., d/b/a Yute Air Alaska, Inc., pursuant to 14 CFR 302.10(a)(2), requesting the issuance of a Final Order on an expedited basis, granting the application to make effective the passenger authority in its certificate of public convenience and necessity. To facilitate rapid Department action, Flight Alaska requests that the answer period be shortened to 14 days, from the 21 days provided in 14 CFR Section 302.204(a).

Dorothy Y. Beard,
Federal Register Liaison.

[FR Doc. 01-22538 Filed 9-6-01; 8:45 am]

BILLING CODE 4910-62-P